DEPARTMENT OF THE INTERIOR

U.S. Geological Survey

[GX16CC00G1S3000]

Agency Information Collection Activities: Request for Comments on the USGS Water Use Data and Research Program

AGENCY: U.S. Geological Survey (USGS), Interior.

ACTION: Notice of a new information collection, USGS Water Use Data and Research Program.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before March 24, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW USGS Water Use Data and Research Program'. Please also forward a copy of your comments and suggestions on this information collection to the Information Collection Clearance Officer, U.S. Geological Survey, 12201 Sunrise Valley Drive, MS 807, Reston, VA 20192 (mail); (703) 648-7195 (fax); or gs-info_collections@usgs.gov (email). Please reference `OMB Information Collection 1028-NEW: USGS Water Use Data and Research Program' in all correspondence.

FOR FURTHER INFORMATION CONTACT: Melinda Dalton, Water Availability and Use Science Program, U.S. Geological Survey, 1770 Corporate Drive, Suite 500, Norcross, GA 30095 (mail); 678-924-6637 (phone); or msdalton@usgs.gov (email). You may also find information about this ICR at www.reginfo.gov.

SUPPLEMENTARY INFORMATION:

I. Abstract

The USGS is authorized under SECURE Water Act Section 9508 to assist state water resource agencies with improving their water use data collection activities. USGS has implemented the Water Use Date and Research program (WUDR), to work with state water agencies in gathering and analyzing their data, and assists this effort via cooperative agreements. WUDR will be used to improve the collection and reporting of water-use categories by state agencies, including categories of water use that were previously collected by the USGS National Water Use Information program but discontinued due to limited resources. This collection will also be used in reports to Congress on water resources in the nation. Grant funds will be announced and awarded as part of a competitive process that will be guided, annually, by a technical committee whose members will include representatives from the stakeholder community as well as USGS. Water Use Data and Research Program funds will be coordinated with a single agency in each State. Collaboration and coordination with USGS personnel will be required as part of the Grants program. Data must be stored electronically and made available at the 8-digit hydrologic-unit code (HUC-8) and county level in formats appropriate for existing USGS databases. Additionally, methods used for data collection (estimated values, coefficients, etc.) and a description of data quality assurance and control will be required.

II. Data

OMB Control Number: 1028—NEW.

Title: USGS Water Use Data and Research Program.

Type of Request: Approval of new information collection.

Respondent Obligation: Required to obtain or retain benefits.

Frequency of Collection: Annually.

Description of Respondents: State water-resource agencies that collect water-use data.

Estimated Total Number of Annual Responses: We expect 52 respondents to read and complete the application. We expect 15 respondents to submit a mid-term progress report and a final technical report.

Estimated Time per Response: We estimate that it will take 40 hours to prepare the proposal. This includes time to complete the project narrative and to provide any other relevant supporting documents. We estimate that it will take 12 hours in total to prepare the mid-term and final reports.

Estimated Annual Burden Hours: 2,260 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until OMB approves a collection of information, you are not obliged to respond.

Comments: On July 23, 2015, we published a Federal Register notice (80 FR 43792) announcing that we would submit this ICR to OMB for approval and soliciting comments. The comment period closed on September 21, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Sonya Jones,
Program Coordinator, Water Availability and Use Science Program.

[FR Doc. 2016-03704 Filed 2-22-16; 8:45 am]

BILLING CODE 4338-11-P